DEPARTMENT OF ENERGY

Federal Energy Regulatory Commission

[Docket No. EG00-76-000]

Black River Limited Partnership; Errata of February 15, 2000; Notice of Amendment to Application for Commission Determination of Exempt Wholesale Generator Status Issued Febraury 11, 2000

Correction

In notice document 00-4056, appearing on page 8695, in the issue of Tuesday, February 22, 2000, the docket line should appear as set forth above.

[FR Doc. C0-4056 Filed 2-24-00; 8:45 am]

BILLING CODE 1505-01-D

DEPARTMENT OF ENERGY

Federal Energy Regulatory Commission

[Docket Nos. OR98-1-000, OR96-2-000, and OR96-10-000]

ARCO Products Company, a Division of Atlantic Richfield Company, Equilon Enterprises L.L.C., Mobil Oil Corporation, and Texaco Refining and Marketing, Inc., Complainants v. SFPP, L.P., Respondent; Notice of Second Amended Complaint, and Third Original Complaint Against SFPP, L.P.

Correction

In notice document 00-2368 beginning on page 5331 in the issue of Thursday, February 3, 2000, the docket number should read as set forth above.

[FR Doc. C0-2368 Filed 2-23-00; 8:45 am]

BILLING CODE 1505-01-D

DEPARTMENT OF TRANSPORTATION

Federal Aviation Administration

Proposed Advisory Circulars (AC) 25.981-1X, Fuel Tank Ignition Source Prevention Guidelines; and AC 25.981-2X, Fuel Tank Flammability Minimization

Correction

In notice document 00-2262, beginning on page 5012, in the issue of Wednesday, February 2, 2000, make the following corrections:

1. On page 5012, in the second column, under the heading ADDRESSES:, in the 11th line, “mike.doster@faa.gov” should read “mike.dostert@faa.gov”.

2. On page 5012, in the third column, under the heading Discussion, in 18th line, “re” should read “are”.

[FR Doc. C0-2262 Filed 2-23-00; 8:45 am]

BILLING CODE 1505-01-D

DEPARTMENT OF THE TREASURY

Internal Revenue Service

26 CFR Part 1

[REG-105089-99]

RIN 1545-AX38

Guidance Under Section 356 Relating to the Treatment of Nonqualified Preferred Stock and Other Preferred Stock in Certain Exchanges and Distributions

Correction

In proposed rule document 00-1529 beginning on page 4203 in the issue of January 26, 2000, make the following correction:

§1.356-7 [Corrected]

On page 4206, in the second column, in §1.356-7(b)(2), the paragraph designated as “(B)” should be designated as “(ii)”.

[FR Doc. C0-1529 Filed 2-24-00; 8:45 am]

BILLING CODE 1505-01-D

DEPARTMENT OF THE TREASURY

Internal Revenue Service

26 CFR Part 49

[TD 8855]

RIN 1545-AV63

Communications Excise Tax; Prepaid Telephone Cards

Correction

In rule document 00-56 beginning on page 1056 in the issue of January 7, 2000, make the following correction:

§49.4251-4 [Corrected]

On page 1059, in the first column, in §49.4251-4(e), Example 6, paragraph (iii), in the 13th and 14th lines, “price × 10,000 PTC's” should read “price ÷ 10,000 PTC's”.

[FR Doc. C9-56 Filed 2-24-00; 8:45 am]

BILLING CODE 1505-01-D